DEPARTMENT OF HOUSING AND URBAN DEVELOPMENT

[Docket No. FR-5601-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including Zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; COAST GUARD: Commandant, United States Coast Guard, Attn: Jennifer Stomber, 2100 Second St. SW., Stop 7901, Washington, DC 20593-0001, (202) 475-5609; ENERGY: Mr. Mark Price, Department of Energy, Office of Engineering & Construction Management, MA-50, 1000 Independence Ave. SW., Washington, DC 20585, (202) 586-5422; GSA: Mr. John Smith, Acting Deputy Assistant Commissioner, General Services Administration, Office of Property Disposal, 18th & F Streets NW., Washington, DC 20405, (202) 501-0084; NAVY: Mr. Steve Matteo, Department of the Navy, Asset Management Division, Naval Facilities Engineering Command, Washington Navy Yard, 1330 Patterson Ave. SW., Suite 1000, Washington, DC 20374, (202) 685-9426 (These are not toll-free numbers).

Dated: March 1, 2012.
Mark R. Johnston,
Deputy Assistant Secretary for Special Needs.

TITLE V, FEDERAL SURPLUS PROPERTY PROGRAM FEDERAL REGISTER REPORT FOR 03/09/2012

Suitable/Available Properties

Building

Colorado

Kitchen Center Prep

AF Academy

USAF CO 80840

Landholding Agency: Air Force

Property Number: 18201210016

Status: Underutilized

Directions: 1076 Jack's Valley Rd.

Comments: 512 sq. ft.; current use: vacant; bldg. has no heat

Kitchen Center Prep

AF Academy

USAF CO 80840

Landholding Agency: Air Force

Property Number: 18201210017

Status: Unutilized

Directions: 1077 Jack's Valley Rd.

Comments: 512 sq. ft.; current use: vacant; bldg. has no heat

Kitchen Center Prep

AF Academy

USAF CO 80840

Landholding Agency: Air Force

Property Number: 18201210018

Status: Underutilized

Directions: 1078 Jack's Valley Rd.

Comments: 512 sq. ft.; current use: vacant; bldg. has no heat

Multi-Purpose Rec Bldg.

AF Academy

USAF CO 80840

Landholding Agency: Air Force

Property Number: 18201210019

Status: Underutilized

Directions: 9024 Husted Rd.

Comments: 1,242 sq. ft.; current use: NOCA; poor conditions—need repairs; asbestos identified

Multi-Purpose Rec Bldg.

AF Academy

USAF CO 80840

Landholding Agency: Air Force

Property Number: 18201210020

Status: Unutilized

Directions: 9026 Husted Rd.

Comments: 376 sq. ft.; current use: vacant; poor conditions—need repairs

District of Columbia

West Heating Plant

1051 29th St. NW.

Washington DC 20007

Landholding Agency: GSA

Property Number: 54201140006

Status: Surplus

GSA Number: DC-497-1

Comments: REDETERMINATION: 1.97 acres; current use: industry; transferee is required to remediate significant contaminants which includes arsenic, PCBs, and benzo(a)pyrene; demolish massive equipment; and mitigate against vapor intrusion to utilize. Contact GSA for more conditions.

New Jersey

Two Housing Units

USCG Detachment Sandy Hook

Highlands NJ 07732

Landholding Agency: Coast Guard

Property Number: 88201210002

Status: Underutilized

Directions: 141 and 142

Comments: off-site removal only; 5,262 sq. ft. each; current use: housing

Housing Unit

USCG Detachment Sandy Hook

Highlands NJ 07732

Landholding Agency: Coast Guard

Property Number: 88201210003

Status: Underutilized

Comments: off-site removal only; 12,924 sq. ft.; current use: storage

South Carolina

B-2003

Joint Base Charleston Air

JBCA SC 29404

Landholding Agency: Air Force

Property Number: 18201210009

Status: Unutilized

Directions: 103 Fighter Dr.

Comments: off-site removal only; 247 sq. ft.; current use: guard shack

B-276

Turkey Lane

JBCW SC 29445

Landholding Agency: Air Force

Property Number: 18201210010

Status: Unutilized

Comments: off site removal only; 120 sq. ft.; current use: storage; poor conditions—need repairs

B-277

Joint Base Charleston Weapons

JBCW SC 29445

Landholding Agency: Air Force

Property Number: 18201210011

Status: Unutilized

Comments: off-site removal only; 400 sq. ft.; leaking through wall and window; poor conditions—need repairs

B-245

207 Davis Dr.

JBCA SC 29404

Landholding Agency: Air Force

Property Number: 18201210012

Status: Underutilized

Comments: off-site removal only; 25,107 sq. ft.; current use: storage; bld. is dilapidated—need major repairs

B-306

101 Simpson

JBCA SC 29404

Landholding Agency: Air Force

Property Number: 18201210013

Status: Excess

Comments: off-site removal only; 4,220 sq. ft.; current use: storage; poor conditions— need repairs

B-636

205 W. Stewart Ave.

JBCA SC 29404

Landholding Agency: Air Force

Property Number: 18201210014

Status: Unutilized

Comments: off-site removal only; 4,100 sq. ft.; current use: storage; poor conditions— need repairs

B-2000

105 Fighter Dr.

JBCA SC 29404

Landholding Agency: Air Force

Property Number: 18201210015

Status: Unutilized

Comments: off-site removal only; 25,000 sq. ft.; current use: safety trng.; poor conditions—need repairs

Texas

B-9278

Lackland AFB

Lackland TX

Landholding Agency: Air Force

Property Number: 18201210031

Status: Unutilized

Comments: off-site removal only; 1,581 sq. ft.; current use: storage shed; extensive repairs needed; secured facility—need permission prior to entry

Suitable/Unavailable Properties

Building

North Carolina

Greenville Site

10000 Cherry Run Rd.

Greenville NC 27834

Landholding Agency: GSA

Property Number: 54201210002

Status: Unutilized

GSA Number: 4-2-NC-0753

Comments: 49,300 sq. ft.; current use: transmitter bldg.; possible PCB contamination; not available—existing Federal need

Unsuitable Properties

Building

Alabama

2 Bldgs.

Maxwell Air Force

Maxwell AL 36112

Landholding Agency: Air Force

Property Number: 18201210030

Status: Unutilized

Directions: B-30, B-698

Comments: national security concerns; no public access and no alternative method

Reasons: Secured Area

Florida

B-728

Eglin AFB

Eglin FL 32542

Landholding Agency: Air Force

Property Number: 18201210002

Status: Underutilized

Comments: national security concerns; no public access and no alternative method

Reasons: Secured Area

B-8850

Eglin AFB

Eglin FL 32542

Landholding Agency: Air Force

Property Number: 18201210021

Status: Underutilized

Comments: national security concerns; no public access and no alternative method

Reasons: Secured Area

B-1219

Eglin AFB

Eglin FL 32542

Landholding Agency: Air Force

Property Number: 18201210022

Status: Unutilized

Comments: national security concerns; no public access and no alternative method

Reasons: Secured Area

3 Bldgs.

Eglin AFB

Eglin FL 32542

Landholding Agency: Air Force

Property Number: 18201210023

Status: Underutilized

Directions: 729, 730, 731

Comments: national security concerns; no public access and no alternative method

Reasons: Secured Area

B-609

Eglin AFB

Eglin FL 32542

Landholding Agency: Air Force

Property Number: 18201210024

Status: Unutilized

Comments: national security concerns; no public access and no alternative method

Reasons: Secured Area

2 Bldgs.

Eglin AFB

Eglin FL 32542

Landholding Agency: Air Force

Property Number: 18201210025

Status: Underutilized

Directions: 607, 608

Comments: national security concerns; no public access and no alternative method

Reasons: Secured Area

B-606

Eglin AFB

Eglin FL 32542

Landholding Agency: Air Force

Property Number: 18201210027

Status: Unutilized

Comments: national security concerns; no public access and no alternative method

Reasons: Secured Area

5 Bldgs.

Eglin AFB

Eglin FL 32542

Landholding Agency: Air Force

Property Number: 18201210028

Status: Underutilized

Directions: 914, 915, 1360, 1364, 1386

Comments: national security concerns; no public access and no alternative method

Reasons: Secured Area

Illinois

B-3273

Scott AFB

Scott AFB IL 62225

Landholding Agency: Air Force

Property Number: 18201210005

Status: Unutilized

Comments: national security concerns; no public access and no alternative method

Reasons: Secured Area

Iowa

B-1116

Sioux Gateway Airport

Sioux City IA 51111

Landholding Agency: Air Force

Property Number: 18201210003

Status: Underutilized

Comments: national security concerns; no public access and no alternative method

Reasons: Secured Area

Kansas

18 Bldgs.

McConnell AFB

McConnell KS 67210

Landholding Agency: Air Force

Property Number: 18201210001

Status: Underutilized

Directions: 185, 430, 490, 515, 520, 522, 732, 739, 795, 804, 810, 1090, 1103, 1110, 1167, 1336, 1346, 1501

Comments: national security concerns; no public access and no alternative method

Reasons: Secured Area

Maryland

3 Bldgs.

Air National Guard

Baltimore MD 21220

Landholding Agency: Air Force

Property Number: 18201210007

Status: Underutilized

Directions: 1050, 5047, 5045

Comments: national security concerns; no public access and no alternative method

Reasons: Secured Area

Massachusetts

B-3309

Otis AFB

Otis MA

Landholding Agency: Air Force

Property Number: 18201210004

Status: Excess

Comments: national security concerns; no public access and no alternative method

Reasons: Secured Area

New York

Bldg. 0589

Brookhaven Nat'l Lab

Upton NY 11973

Landholding Agency: Energy

Property Number: 41201210003

Status: Unutilized

Comments: national security concerns; no public access and no alternative method

Reasons: Secured Area

North Dakota

4 Bldgs.

Grand Forks AFB

Grand Forks ND 58205

Landholding Agency: Air Force

Property Number: 18201210008

Status: Unutilized

Directions: 219, 432, 437, 442

Comments: national security concerns; no public access and no alternative method

Reasons: Secured Area

Ohio

7 Bldgs.

Wright-Patterson Air Force Base

WPAFB OH 45433

Landholding Agency: Air Force

Property Number: 18201210033

Status: Excess

Directions: 10286, 10818, 11456, 20047, 20062, 20072, 20235

Comments: National security concerns; no public access and no alternative method

Reasons: Secured Area

6 Bldgs.

Wright-Patterson Air Force Base

WPAFB OH 45433

Landholding Agency: Air Force

Property Number: 18201210037

Status: Excess

Directions: 30170, 30175, 30176, 30256, 30900, 31083

Comments: National security concerns; no public access and no alternative method

Reasons: Secured Area

11 Bldgs.

Wright-Patterson Air Force Base

WPAFB OH 45433

Landholding Agency: Air Force

Property Number: 18201210039

Status: Excess

Directions: 20250, 20440, 20440 (2554 Q Street), 20745, 22001, 22002, 30017, 30021, 30029, 30053, 30058

Comments: National security concerns; no public access and no alternative method

Reasons: Secured Area

Oklahoma

4 Bldgs.

Altus AFB AGGN

Altus OK 73523

Landholding Agency: Air Force

Property Number: 18201210034

Status: Excess

Directions: B-218, B-316, B-352, B-455

Comments: National security concerns; no public access and no alternative method

Reasons: Secured Area

Pennsylvania

Outdoor Swim Pool

NSA

Philadelphia PA

Landholding Agency: Navy

Property Number: 77201210002

Status: Unutilized

Directions: Facility No. 88

Comments: National security concerns; no public access and no alternative method

Reasons: Secured Area

Texas

5 Bldgs.

Goodfellow AFB

Goodfellow TX 76908

Landholding Agency: Air Force

Property Number: 18201210029

Status: Excess

Directions: 742, 744, 719, 718, 504

Comments: National security concerns; no public access and no alternative method

Reasons: Secured Area

4 Bldgs.

Joint Base San Antonio

Ft. Sam Houston TX 78234

Landholding Agency: Air Force

Property Number: 18201210035

Status: Unutilized

Directions: B-1462, B-1281, B-1290, B-1379

Comments: National security concerns; no public access and no alternative method

Reasons: Secured Area

B-1380 and B-1382

Joint Base San Antonio

Ft. Sam Houston TX 78234

Landholding Agency: Air Force

Property Number: 18201210036

Status: Unutilized

Comments: National security concerns; no public access and no alternative method

Reasons: Secured Area

3 Bldgs.

Goodfellow AFB

Ft. Lancaster TX 76908

Landholding Agency: Air Force

Property Number: 18201210038

Status: Excess

Directions: 509, 512, 516

Comments: National security concerns; no public access and no alternative method

Reasons: Secured Area

[FR Doc. 2012-5426 Filed 3-8-12; 8:45 am]

BILLING CODE 4210-67-P